DEPARTMENT OF DEFENSE

Department of the Navy

Privacy Act of 1974; System of Records

AGENCY: Department of the Navy, DoD.

ACTION: Notice to delete records systems.

SUMMARY: The Department of the Navy proposes to delete three systems of records notices from its inventory of records systems subject to the Privacy Act of 1974 (5 U.S.C. 552a), as amended.

DATES: The deletions will be effective on June 28, 2002 unless comments are received that would result in a contrary determination.

ADDRESSES: Send comments to Department of the Navy, PA/FOIA Policy Branch, Chief of Naval Operations, DNS10, 2000 Navy Pentagon, Washington,DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

These deletions are not within the purview of subsection (r) of the Privacy Act of 1974 (5 U.S.C. 552a), as amended, which requires the submission of new or altered systems report.

Dated: May 21, 2002.
Patricia L. Toppings,
Alternate OSD Federal Register Liaison Officer, Department of Defense.,

N01001-5

System name:

MSC Masters/Chief Engineers Biographical Data File (April 28, 1999, 64 FR 22840).

Reason: The Command no longer tracks or updates biographies. Records no longer necessary and have been destroyed.

N04050-1

System name:

Personal Property Program (February 22, 1993, 58 FR 10734).

Reason: The Department of the Navy is deleting this system of records from its inventory because the Department of the Army, as the executive agency for DoD's surface passenger and personal property program, has an established DoD-wide system of records for the maintenance of these records (A0055-355 MTMC, entitled ‘Personal Property Movement and Storage Records’).

N05800-2

System name:

Legal Records System (February 22, 1993, 58 FR 10770).

Reason: As a result of realignment, Navy hospitals no longer report to the Bureau of Medicine and Surgery. Accordingly, their legal office records are covered under a variety of other Navy legal systems. Hence, a separate distinct system for BUMED and the hospitals is no longer needed.

[FR Doc. 02-13296 Filed 5-28-02; 8:45 am]

BILLING CODE 5001-08-P